DEPARTMENT OF DEFENSE

Department of the Army

[Docket ID USA-2012-0002]

Proposed Collection; Comment Request

AGENCY: Edgewood Chemical Biological Center, DoD.

ACTION: Notice.

SUMMARY: In compliance with Section 3506(c)(2)(A) of the Paperwork Reduction Act of 1995, the Edgewood Chemical Biological Center announces a new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Submit comments on or before April 9, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please email at Peter.a.emanuel.civ@mail.mil with subject heading “First Responder Survey Collection”, or call Dr. Peter Emanuel at (410) 436-5562.

Title And OMB Number: Edgewood Chemical Biological Center First Responder Survey; OMB Control Number: 0702-TBD.

Needs and Uses: US Army Edgewood Chemical Biological Center (ECBC) will conduct a survey of responder capabilities, detection technologies, and training in support of the Department of Homeland Security (DHS). The effort will use Web site survey tools to collect data about technologies being employed in the field, and provide information to DHS in order to understand capabilities and perceptions related to CBRN defense. ECBC will also collect data through similar web-based methodologies on commercial hardware systems that detect chemical, biological, and radiological which have applicability in assessing human exposure to pathogens, toxic chemical and radiological agents. The surveillance of hardware systems has been tasked by The Joint Program Executive Office for Chemical and Biological Defense and the Defense Threat Reduction Agency.

Affected Public: Volunteer and professional fire stations, paramedics services, law enforcement officers.

Annual Burden Hours: 291.

Number of Respondents: 700.

Responses per Respondent: 1.

Average Burden per Response: 25 minutes.

Frequency: On occasion.

SUPPLEMENTARY INFORMATION:

Summary of Information Collection

Continuation of CBRN Surveillance Hardware Systems

ECBC will collect data on CBRN surveillance systems in support of the Joint Program Executive Office for Chemical and Biological Defense and the Defense Threat Reduction Agency. In parallel ECBC will also collect data on responder preparedness related to CBRN defense in support of the Department of Homeland Security. The methodologies used in both web-based surveys have been replicated from highly successful CBRN market surveys conducted since 2003. In those previous efforts commercially available products were evaluated through an online collection tool. In executing these efforts a survey questionnaire is distributed online via http://www.SurveyMonkey.com to the targeted community. ECBC maintains an up-to-date contact list from past participation and also works in collaboration with trade groups or professional organizations who share interest and help facilitate distribution of the message. ECBC's subject matter experts have created a small set of targeted questions to be answered by the participants. The information collected will be analyzed using a weighted system and the resulting data is consolidated into a report for the directing organization. In the case of the surveillance hardware surveys the final product was a helpful consolidated guide of all commercially available detection systems which provide a way to compare surveillance and detection equipment and make informed purchasing decisions. Due to rapid changes and inventions in technology, the market survey must be updated to ensure accuracy in the information obtained. Previous published editions include the 2003 Market Research Survey, 2005 Market Research Survey, Market Survey: Biological Detection 2007 Edition, and the 2011 Chemical, Biological, Radiological Technology Survey.

First Responder Survey

ECBC will collect data on responder preparedness related to CBRN defense in support of the Department of Homeland Security. The methodologies shall be a web-based survey distributed online via http://www.SurveyMonkey.com to the targeted community. ECBC maintains an up-to-date contact list from past participation and also works in collaboration with trade groups or professional organizations who share interest and help facilitate distribution of the message. ECBC's subject matter experts have created a small set of targeted questions to be answered by the participants. The information collected will be analyzed using a weighted system and the resulting data is consolidated into a report for the directing organization.

Contact First Responders

ECBC will work with DHS, professional trade groups, and the Responder Knowledge Base (https://www.rkb.us/) to identify a representative group of first responders to survey. ECBC will provide to these first responders a detailed letter describing the effort and the process for providing information. The survey questionnaire shall be developed using http://www.SurveyMonkey.com, the world's leading provider of web-based survey solutions, and shall be hosted at the Web site http://www.ResponderHorizonScan.com. This will allow ECBC to electronically capture information for a large number of first responders and quickly organize and download the information for analysis.

Collect and Analyze Data

The data collected by ECBC will be analyzed by a team of subject matter experts in detection and decision analysis. Decision analysis experts will create a system by which to subjectively analyze the information gathered from the first responder community. This system will allow flexibility in the analysis increasing the power of the survey. The field analysis will provide to DHS valuable insight into the tools being used in the field.

Create and Deliver Final Report and/or Publication

ECBC will provide to DHS a final report consisting of the full and final raw data collected via www.ResponderHorizonScan.com and a written report detailing the analysis performed and the results of the analysis. In addition, ECBC will provide to DHS a presentation for conferences and meetings that highlights the survey results.

Dated: January 23, 2012.
Patricia L. Toppings,
OSD Federal Register Liaison Officer, Department of Defense.

[FR Doc. 2012-2726 Filed 2-6-12; 8:45 am]

BILLING CODE 5001-06-P